DEPARTMENT OF STATE

[Public Notice 6952]

U.S. Advisory Commission on Public Diplomacy; Notice of Meeting

The U.S. Advisory Commission on Public Diplomacy will hold a public meeting on April 23, 2010, at the University of Southern California Annenberg School for Communication and Journalism, Room ASC 207, Geoffrey Cowan Forum. Address: 3502 Watt Way, Los Angeles, CA 90089. The meeting will begin at 9:30 a.m. and conclude at 11:30 a.m. The Commissioners will discuss public diplomacy issues, including measurement of U.S. government public diplomacy efforts.

The Advisory Commission was originally established under Section 604 of the United States Information and Exchange Act of 1948, as amended (22 U.S.C. 1469) and Section 8 of Reorganization Plan Numbered 2 of 1977. It was reauthorized pursuant to Public Law 111-70 (2009), 22 U.S.C. 6553.

The Advisory Commission is a bipartisan panel created by Congress to assess public diplomacy policies and programs of the U.S. government and publicly funded nongovernmental organizations. The Commission reports its findings and recommendations to the President, the Congress and the Secretary of State and the American people. Current Commission members include William Hybl, who is the Chairman; Jay Snyder of New York; Penne Korth Peacock of Texas; Lyndon Olson of Texas; John Osborn of Pennsylvania; and Lezlee Westine of Virginia.

Seating at this meeting is limited. To attend and for more information, please contact Carl Chan at (202) 632-2823. E-mail: chanck@state.gov.

This announcement might appear in the Federal Register less than 15 days prior to the meeting. The Department of State finds that there is an exceptional circumstance in that the University of Southern California was not able to confirm this meeting until the morning of April 5th. This Notice was published as soon as possible after that confirmation.

Dated: April 5, 2010.
Carl Chan,
Executive Director, ACPD.

[FR Doc. 2010-8140 Filed 4-8-10; 8:45 am]

BILLING CODE 4710-45-P